INTERNATIONAL TRADE COMMISSION

[Investigation No. 337-TA-1398]

Certain Smart Wearable Devices, Systems, and Components Thereof; Notice of a Commission Determination Not To Review an Initial Determination Granting Complainants' Motion To Amend the Complaint and Notice of Investigation

AGENCY: International Trade Commission.

ACTION: Notice.

SUMMARY: Notice is hereby given that the U.S. International Trade Commission (“Commission”) has determined not to review an initial determination (“ID”) (Order No. 8) of the presiding administrative law judge (“ALJ”) granting complainants' motion to amend the complaint and notice of investigation.

FOR FURTHER INFORMATION CONTACT: Michael Liberman, Esq., Office of the General Counsel, U.S. International Trade Commission, 500 E Street SW, Washington, DC 20436, telephone (202) 205-3115. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on April 17, 2024, based on a complaint filed on behalf of Ouraring, Inc. of San Francisco, California, and Ōura Health Oy of Finland (collectively, “Quraring,” or “Complainants”). 89 FR 27452-53 (Apr. 17, 2024). The complaint, as amended, alleges violations of section 337 based upon the importation into the United States, the sale for importation, and the sale within the United States after importation of certain smart wearable devices, systems, and components thereof by reason of the infringement of certain claims of U.S. Patent Nos. 11,868,178; 11,868,179; and 10,842,429. The Commission's notice of investigation named as respondents Ultrahuman Healthcare Pvt. Ltd. of Karnataka, India; Ultrahuman Healthcare SP LLC of Abu Dhabi, UAE; Ultrahuman Healthcare Ltd. of London, United Kingdom; Guangdong Jiu Zhi Technology Co. Ltd. of Guangdong, China; RingConn LLC of Wilmington, Delaware; and Circular SAS of Paris, France. The Office of Unfair Import Investigations (“OUII”) is also a party in this investigation.

On April 26, 2024, Quraring moved to amend its first amended complaint and the notice of investigation to change the name of respondent Guangdong Jiu Zhi Technology Co. Ltd. to Shenzhen Ninenovo Technology Limited because of a corporate name change. Motion Docket No. 1398-004 (“Mot.”) at 1 (EDIS Doc. ID 819859). Quraring also moved to amend the address for RingConn LLC. Id. The motion states that it is unopposed by respondents RingConn, Circular SAS, Ultrahuman Healthcare Pvt. Ltd., Ultrahuman Healthcare Ltd., and Ultrahuman Healthcare SP LLC. Id. at 1-2. On May 1, 2024, OUII filed a response supporting the motion. EDIS Doc. ID 820164.

On May 3, 2024, the ALJ issued an ID (Order No. 8) granting the subject motion. The ID considered Quraring's statement that Ouraring originally believed that Guangdong Jiu Zhi Technology Co. Ltd. was the parent company of RingConn LLC based on publicly available information, including RingConn's website. See ID at 2 (citing Mot. at 2). The ID noted that RingConn notified Ouraring on April 19, 2024, that Guangdong Jiu Zhi Technology Co. Ltd. had changed its name to Shenzhen Ninenovo Technology Limited. Id. (citing Mot. at 2-3, and Mot. Ex. A). The ID further noted that Ouraring states that on April 23, 2024, it learned the complete address for RingConn LLC. Id. (citing Mot. at 2-3, and Mot. Ex. B).

The ID found that Ouraring showed good cause to amend the complaint and notice of investigation to change the name of respondent Guangdong Jiu Zhi Technology Co. Ltd. to Shenzhen Ninenovo Technology Limited and to update the address for respondent RingConn LLC. Id. The ID further found that the above changes will not prejudice the rights of any parties to the investigation and reflect current and correct information. Id. No party petitioned for review of the ID.

The Commission has determined not to review the ID. The Commission vote for this determination took place on June 4, 2024.

By order of the Commission.
Issued: June 4, 2024.
Lisa Barton,
Secretary to the Commission.

[FR Doc. 2024-12550 Filed 6-6-24; 8:45 am]

BILLING CODE 7020-02-P